DEPARTMENT OF AGRICULTURE

Forest Service

Black Hills National Forest Advisory Board

AGENCY: Forest Service, Agriculture (USDA).

ACTION: Notice of meeting.

SUMMARY: The Black Hills National Forest Advisory Board (Board) will conduct a virtual meeting. The committee is established consistent with and operates in compliance with the Federal Advisory Committee Act. The purpose of the committee is to improve collaborative relationships and to provide advice and recommendations to the Secretary of Agriculture through the Black Hills National Forest Supervisor on a broad range of forest issues. Board information, including the meeting agenda and the meeting summary/minutes can be found at the following website: https://www.fs.usda.gov/main/blackhills/workingtogether/advisorycommittees.

DATES: The meeting will be held on Wednesday, September 16, 2020, at 1:00 p.m.

All meetings are subject to cancellation. For updated status of meeting prior to attendance, please contact the person listed under For Further Information Contact.

ADDRESSES: The meeting will be held via Adobe Connect along with two conference call lines: one line will be for participants, and one line will be for the public for listen only. Detailed instructions on how to attend the meeting virtually will be sent out via email along with a news release approximately one week prior to the meeting.

Written comments may be submitted as described under Supplementary Information. All comments, including names and addresses, when provided, are placed in the record and available for public inspection and copying. The public may inspect comments received at Black Hills National Forest Supervisor's Office. Please call ahead to facilitate entry into the building.

FOR FURTHER INFORMATION CONTACT: Scott Jacobson, Committee Coordinator, by phone at 605-440-1409 or by email at scott.j.jacobson@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to discuss:

(1) Timber Sustainability Discussion

The meeting is open to the public. Individuals wishing to provide comments with regards to this meeting's agenda and for comments to be included with the meeting minutes/records, comments must be submitted in writing by September 17, 2020. Anyone who would like to bring related letters to the attention of the Board may file written statements with the Board's staff before or after the meeting. Written comments must be sent to Scott Jacobson, Black Hills National Forest Supervisor's Office, 1019 North Fifth Street, Custer, South Dakota 57730; by email to scott.j.jacobson@usda.gov, or via facsimile to 605-673-9208.

Meeting Accommodations: If you are a person requiring reasonable accommodation, please make requests in advance for sign language interpreting, assistive listening devices, or other reasonable accommodation. For access to the facility or proceedings, please contact the person listed in the section titled For Further Information Contact. All reasonable accommodation requests are managed on a case-by-case basis.

Dated: August 12, 2020.
Cikena Reid,
USDA Committee Management Officer.

[FR Doc. 2020-17941 Filed 8-17-20; 8:45 am]

BILLING CODE 3411-15-P